DEPARTMENT OF ENERGY

Federal Energy Regulatory Commission

[Docket No. AD04-9-001]

Billing Procedures for Annual Charges for the Costs of Other Federal Agencies for Administering Part I of the Federal Power Act; Notice Issuing Revised Form for Other Federal Agency Cost Submission

September 17, 2004.

By order dated June 18, 2004, the Commission acted on certain issues remanded to it by the court in City of Tacoma, WA et al. v. FERC, 331 F.3rd 106 (D.C. Cir. 2003). In this case, the court concluded that the Commission is required to determine the reasonableness of costs incurred by other Federal agencies (OFA's) pertaining to their participation in FERC proceedings under Part I of the Federal Power Act when OFA's seek to include such costs in the administrative annual charges licensees must pay to reimburse the United States for the cost of administering Part I. The Commission's June 18 Order, among other things, introduced a proposed new form to be used in submitting OFA costs. 107 FERC ¶ 61,277.

By separate notice also dated June 18, the Commission stated that the form would be finalized in a technical conference. On August 13, 2004, the Commission issued a notice announcing the final OFA form.

The purpose of the instant notice is to issue a revised OFA form, as attached. This revised OFA form is posted on the Commission's Web site at http://www.ferc.gov/docs-filing/hard-filing/ofa/ofa-form.doc.

Magalie R. Salas,
Secretary.

[FR Doc. E4-2923 Filed 10-29-04; 8:45 am]

BILLING CODE 6717-01-P